DEPARTMENT OF THE INTERIOR

Fish and Wildlife Service

[FWS-HQ-IA-2015-N030; FXIA16710900000-156-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before March 9, 2015.

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION:

I. Public Comment Procedures

A. How Do I Request Copies of Applications or Comment on Submitted Applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I Review Comments Submitted by Others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Natural Encounters, Winter Haven, FL; PRT-37015B

The applicant requests a permit to export one captive-bred female Andean condor (Vultur gryphus) for the purpose of enhancement of the survival of the species through captive propagation.

Applicant: Honolulu Zoo, Honolulu, HI; PRT-43192B

The applicant requests a permit to import 20 captive-born Chinese giant salamander (Andrias davidianus) for the purpose of enhancement of the survival of the species. This notification covers activities to be conducted by the applicant over a 1-year period.

Applicant: Centers for Disease Control and Prevention, Atlanta GA; PRT-42312B

The applicant requests a permit to import common chimpanzee (Pan troglodytes) biological samples from wild species for the purpose of scientific research. This notification covers activities to be conducted by the applicant over a 1-year period.

Applicant: Fauna & Flora International, Inc., Washington, DC; PRT-46740B

The applicant requests a permit to import wild Siamese crocodile (Crocodylus siamensis) samples for the purpose of scientific research. This notification covers activities to be conducted by the applicant over a 5-year period.

Application: Caldwell Zoo, Tyler, TX; PRT-MA678171

The applicant request renewal of a captive-bred wildlife registration under 50 CFR 17.21(g) for the following families and species to enhance the species' propagation or survival. This notification covers activities to be conducted by the applicant over a 5- year period.

Families

Equidae

Felidae

Lemuridae

Rhinocerotidae

Tapiridae

Species

Asian elephant (Elephas maximus)

Golden parakeet (Guarouba guarouba)

Galapagos giant tortoise (Chelonoidis nigra)

Application: Tonya Bryson, Winston, GA; PRT-42334B

The applicant requests a captive-bred wildlife registration under 50 CFR 17.21(g) for radiated tortoise (Astrochelys radiata) to enhance the species propagation or survival. This notification covers activities to be conducted by the applicant over a 5-year period.

Applicant: Don Do, Daly City, CA; PRT-47211A

The applicant requests a captive-bred wildlife registration under 50 CFR 17.21(g) for Galapagos Giant tortoise (Chelonoidis nigra) and radiated tortoise (Astrochelys radiata) to enhance the species' propagation or survival. This notification covers activities to be conducted by the applicant over a 5-year period.

Applicant: Wildlife in Need & Wildlife in Deed, Inc., Charlestown, IN; PRT-51552B

The applicant requests a captive-bred wildlife registration under 50 CFR 17.21(g) for the following species to enhance the species' propagation or survival. This notification covers activities to be conducted by the applicant over a 5-year period.

Species

Black and white ruffed lemur (Varecia variegata)

Red ruffed lemur (Varecia rubra)

Brown lemur (Eulemur fulvus)

Ring-tailed lemur (Lemur catta)

Cottontop tamarin (Saguinus oedipus)

Lar gibbon (Hylobates lar)

Leopard (Panthera pardus)

Multiple Applicants

The following applicants each request a permit to import the sport-hunted trophy of one male bontebok (Damaliscus pygargus pygargus) culled from a captive herd maintained under the management program of the Republic of South Africa, for the purpose of enhancement of the survival of the species.

Applicant: Nello Cooper, Fairbanks, AK; PRT-46638B

Applicant: Albert Seeno, Concord, CA; PRT-53980B

Applicant: Janice Simpson, Fort Worth, TX; PRT-56026B

Applicant: James DeBlasio, Boise, ID; PRT-55130B

Brenda Tapia,
Program Analyst/Data Administrator, Branch of Permits, Division of Management Authority.

[FR Doc. 2015-02238 Filed 2-4-15; 8:45 am]

BILLING CODE 4310-55-P